DEPARTMENT OF DEFENSE

Department of the Army

[Docket ID: USA-2015-0002]

Proposed Collection; Comment Request

AGENCY: Army & Air Force Exchange Service (Exchange), DoD.

ACTION: Notice.

SUMMARY: In compliance with the Paperwork Reduction Act of 1995, the Exchange announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 9, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Army and Air Force Exchange Service, Office of the General Counsel, Compliance Division, Attn: Teresa Schreurs, 3911 South Walton Walker Blvd., Dallas, TX 75236-1598 or call the Exchange Compliance Division at 800-967-6067.

SUPPLEMENTARY INFORMATION: Title; Associated Form; and OMB Number: Exchange Customer Service; Exchange Form 6150-003, Exchange Form 6800-023 “Army and Air Force Exchange Service (Exchange) Sweepstakes Acceptance Form”, Exchange Form 6800-002 “Official Entry for Drawing”, Exchange Form 6200-010 “Customer convenience Order Log”, Exchange Form 6450-032 “Customer Service Counter Special Order Log”, Exchange Form 6550-009 “Customer Daily Sales Register”, Exchange Form 6700-001 “Exchange Service—Repair Log”, Exchange-Europe Form 6650-704 “Work Order Home Repair Service”, Exchange Form 6500-093 “Army & Air Force Exchange Service Anthony Pizza Order Form”, Exchange Form 4700-037 “The Cherish Collection Diamond Lifetime Guarantee and Trade-up Certificate”, Exchange Form 6200-9 “Customer Order Form”, Exchange Form 4150-082 “Customer Special Order Repair Parts”, Exchange Form 6800-003 “Customer Service Counter Log”, Exchange Military Star Card Application Form; OMB Control Number 0702-XXXX.

Needs and Uses: The information collection requirement is necessary record customer transactions/payment for layaway and special orders; to determine payment status before finalizing transactions; to identify account delinquencies and prepare customer reminder notices; to mail refunds on canceled layaway or special orders; to process purchase refunds; to document receipt from customer of merchandise subsequently returned to vendors for repair or replacement, shipping/delivery information, and initiate follow up actions; to monitor individual customer refunds; to perform market basket analysis; to improve efficiency of marketing system(s); and to help detect and prevent criminal activity, and identify potential abuse of Exchange privileges.

Affected Public: Authorized patrons of the Exchange.

Annual Burden Hours: 26,667.

Number of Respondents: 800,000.

Responses Per Respondent: 1.

Average Burden per Response: 2 minutes.

Frequency: On Occasion.

Authorized customers of the Army and Air Force Exchange Service information, who provide comments, suggestions, complaints, concerns, opinions, observations or other information pertaining to Exchange operations. The Exchange collects information electronically transmitted, or provided by customers via paper forms completed by the customer or by phone, which allows the Exchange to contact the customer for special events, sales, address customer complaints as well as provide information about shopping at the Exchange. The information provides valuable data to the Exchange, which is used to enhance operations and improve efficiencies of the Exchange marketing program, and to generally enrich the customers' experience. If the Exchange does not receive the data, the Exchange efforts to improve the shopping experience would not be as effective, efficient or useful. Customer information is vital to the efficient and effective maintenance and improvement of Exchange operations.

Dated: January 2, 2015.
Aaron Siegel,
Alternate OSD Federal Register Liaison Officer, Department of Defense.

[FR Doc. 2015-00015 Filed 1-6-15; 8:45 am]

BILLING CODE 5001-06-P